DEPARTMENT OF STATE

[Public Notice 3661]

Shipping Coordinating Committee; Notice of Meeting

The Shipping Coordinating Committee will conduct an open meeting at 9:30 a.m. on Wednesday June 13, 2001, in room 6103, U. S. Coast Guard Headquarters, 2100 Second Street, SW., Washington, DC. The purpose of the meeting is to prepare for the 47th session of the Subcommittee on Safety of Navigation (NAV) of the International Maritime Organization (IMO) which is scheduled for July 2-6, 2001, at the IMO Headquarters in London.

Items of principal interest on the agenda are:

—Routing of ships, ship reporting and related matters

—Integrated bridge systems (IBS) operational aspects

—Guidelines relating to the International Convention for the Safety of Life at Sea (SOLAS) chapter V

—Training and certification of maritime pilots and revision of resolution A.485(XII)

—Navigational aids and related matters

—International Telecommunication Union (ITU) matters, including Radiocommunication ITU-R Study Group 8

—Effective voyage planning for large passenger vessels

Members of the public may attend these meetings up to the seating capacity of the room. Interested persons may seek information by writing: Mr. Edward J. LaRue, Jr., U.S. Coast Guard (G-MWV-2, Room 1407, 2100 Second Street SW, Washington, DC 20593-0001 or by calling: (202) 267-0416.

Dated: May 7, 2001.
Stephen M. Miller,
Executive Secretary, Shipping Coordinating Committee, U.S. Department of State.

[FR Doc. 01-12210 Filed 5-14-01; 8:45 am]

BILLING CODE 4710-07-P